DEPARTMENT OF THE INTERIOR

Bureau of Indian Affairs

Notice of Intent To Prepare an Environmental Impact Statement for the Proposed Wheatgrass Ridge Wind Project, Fort Hall Indian Reservation, Idaho

AGENCY: Bureau of Indian Affairs, Department of the Interior.

ACTION: Notice.

SUMMARY: This notice advises the public that the Bureau of Indian Affairs (BIA), as Lead Agency, intends to prepare an Environmental Impact Statement (EIS) for the Wheatgrass Ridge Wind Project, Fort Hall Indian Reservation, Idaho. It also announces the beginning of the scoping process to identify potential issues and content for inclusion in the EIS. Construction of the Wheatgrass Ridge Wind Project within the Fort Hall Reservation is subject to BIA approval of a lease and, as proposed, is a major Federal action under the National Environmental Policy Act of 1969 (NEPA), as amended. The information in the EIS will be used to support a decision whether or not to lease Shoshone-Bannock Tribal lands to Wheatgrass Ridge Wind, LLC, for construction, operation, and maintenance of a wind energy facility up to 160 megawatt (MW). The EIS will describe and analyze potential environmental impacts from the proposed action and a range of reasonable alternatives.

DATES: Written comments on the scope and implementation of this proposal must arrive by August 1, 2011. The date(s) and location(s) of any scoping meetings will be announced at least 15 days in advance through local news media, newspapers and the Wheatgrass Ridge Wind EIS Project Web site at: http://www.wheatgrassridgewindeis.info.

ADDRESSES: You may submit comments related to the Wheatgrass Ridge Wind Project EIS by any of the following methods:

• E-mail: info@WheatgrassRidgeWindEIS.info.

• Fax: (208) 288-6199 (attention: Steve Linhart, POWER Engineers-Wheatgrass Ridge Wind EIS).

• Mail: Wheatgrass Ridge Wind EIS, c/o Steve Linhart, POWER Engineers, 2041 South Cobalt Point Way, Meridian, Idaho 83642.

• In person: At any EIS public scoping meeting.

FOR FURTHER INFORMATION CONTACT: Bureau of Indian Affairs, Northwest Regional Office, Attention Dr. BJ Howerton, Environmental Services, 911 NE. 11th Avenue, Portland, Oregon 97232-4169 Telephone: (503) 231-6749.

SUPPLEMENTARY INFORMATION: The EIS will assess the potential environmental impacts of BIA approval of leasing Tribally-owned lands on Fort Hall Indian Reservation near Pocatello, Idaho, to Wheatgrass Ridge Wind, LLC, to construct, operate, and maintain a wind energy facility up to 160 megawatt (MW). Wheatgrass Ridge Wind, LLC, is a company co-owned by Shoshone-Bannock Renewable Energy Development Company (SBRED) and Boreas Wind, LLC. SBRED (a corporation created under Section 17 of the Indian Reorganization Act) is wholly owned by the Shoshone-Bannock Tribes of the Fort Hall Indian Reservation, a Federally recognized Indian Tribe organized under the Indian Reorganization Act of 1934 located in the State of Idaho. Boreas is wholly owned by Southern Ute Alternative Energy, LLC (SUAE), a Colorado limited liability company, and was formed for the purpose of pursuing and developing wind power projects. The SUAE is wholly owned by the Southern Ute Indian Tribe and was created to invest in and develop alternative and renewable energy.

The wind energy facility would be located on 100 percent Tribally owned lands in the Bannock Creek District located in the southwestern part of the Fort Hall Indian Reservation. The proposed facility is anticipated to be comprised of between 53 and 106 wind turbines with a hub height of up to 330 feet and a tip height from 300 to 525 feet (tip height is measured from the ground to the tip of the rotor blade when it is perpendicular to the ground), depending on type and model of wind turbine). The facility would include: turbines anchored to concrete foundations approximately 20 feet in diameter surrounded by a gravel area around the exposed turbine foundation of approximately 60 feet; overhead and underground transmission lines; interconnection to adjacent transmission lines (138kV to 345 kV depending on the interconnection point) owned and operation by Idaho Power or PacifiCorp; up to three substations approximately two to five acres each; eight to 10 temporary and two to four permanent meteorological towers, approximately 200 to 315 feet in height, depending on the meteorological data collected; new all-weather gravel access roads approximately 16 feet wide to each turbine location; widening and improvements to existing two-track roads to achieve an approximate 16 to 22 foot wide all-weather gravel access road; temporary lay down yards and hardened crane pads used for erecting turbines; and an operations and maintenance building built on approximately five acres of land within the project area. Wind turbine models in the 1.5-3 MW range from various manufacturers are being considered. The wind project would be located in an area up to approximately 21,355 acres on a land feature known as Wheatgrass Ridge. However, the actual wind turbines, roads, transmission lines, substation(s), and other infrastructure would have a footprint of approximately 250 to 500 acres of land.

The purpose of this project is to: (1) Increase electrical generation to meet existing and future energy demands in the western United States; (2) provide new opportunities for economic development and economic diversification for the Shoshone-Bannock Tribes; (3) provide renewable energy resources for the western United States; (4) promote the self-governance and self-determination of the Shoshone-Bannock Tribes; and (5) develop the project in an environmentally sound manner that addresses and preserves traditional and cultural practices of the Shoshone-Bannock Tribes. The purpose of the public scoping process is to determine relevant issues that will influence the scope of the environmental analysis, including alternatives, and guide the process for developing the EIS. At present, the BIA has identified the following preliminary issues (in no particular order of importance): (1) Visual resources—The wind turbines and other project components would be new features on the landscape and visible from various distances, and would be a long-term change to the rural view shed. (2) Traditional uses—The proposed project may affect traditional, cultural practices and spiritual uses in the Bannock Creek area by the Shoshone-Bannock Tribal members. (3) Wildlife—Projects of this magnitude may have an effect on wildlife. Focal species studies will include migrating and resident raptors, waterfowl, upland game birds and large game species. (4) Soils—Project transportation required for the project are located in an area with highly erodible soils. (5) Wildland Fire—The project area is subject to repeated wildland fires. (6) Socioeconomics—The EIS will evaluate potential impacts on socioeconomic resources, including impacts to range uses, increases and diversification of Tribal revenues and employment opportunities.

The proposed project is expected to create a new revenue source and new employment opportunities on the Tribal lands as well as diversify the economic base for the Shoshone-Bannock Tribes and the Fort Hall Indian Reservation. Local communities such as American Falls, Pocatello, Power County, and the State of Idaho will also likely experience economic benefit. As a new economic opportunity for the Shoshone-Bannock Tribes, there are questions regarding the local economic benefits of the project and overall community support for the project.

Directions for Submitting Public Comments

Please include your name, return address, and the caption “EIS, Wheatgrass Ridge Wind Project” on the first page of any written comments you submit. You may also submit comments at the public scoping meetings.

Public Comment Availability

Comments, including names and addresses of respondents, will be available for public review at the mailing address shown in the ADDRESSES Section of this notice during regular business hours, 8 a.m. to 4.30 p.m., Monday through Friday, except holidays. Before including your address, telephone number, e-mail address, or other personal identifying information in your comment, you should be aware that your entire comment—including your personal identifying information—may be made publicly available at any time. While you may ask us in your comment to withhold your personal identifying information from public review, we cannot guarantee that we will be able to do so.

Authority: This notice is published in accordance with sections 1503.1 and 1506.6 of the Council on Environmental Quality Regulations (40 CFR parts 1500 through 1508), and section 46.305 of the Department of the Interior Regulations (42 CFR part 46) implementing the procedural requirements of the NEPA, as amended (42 U.S.C. 4321 et seq.), and is in the exercise of authority delegated to the Assistant Secretary—Indian Affairs by 209 DM 8.1.

Dated: May 17, 2011.
Paul Tsosie,
Chief of Staff, Assistant Secretary—Indian Affairs.

[FR Doc. 2011-13618 Filed 6-1-11; 8:45 am]

BILLING CODE 4310-W7-P